NATIONAL SCIENCE FOUNDATION

Sunshine Act Meeting

AGENCY HOLDING MEETING: National Science Foundation, National Science Board Executive Committee.

DATE AND TIME: September 27, 2000, 2 p.m.-3:30 p.m. Closed Session.

PLACE: The National Science Foundation, 4201 Wilson Boulevard, Room 1205, Arlington, VA 22230.

STATUS: This meeting will be closed to the public.

MATTERS TO BE CONSIDERED: Closed Session (2 p.m. to 3:30 p.m.)

NSF FY 2002 Budget

NSF/OIG FY 2002 Budget

Marta Cehelsky,
Executive Officer.

[FR Doc. 00-24326 Filed 9-18-00; 3:40 pm]

BILLING CODE 7555-01-M